DEPARTMENT OF LABOR

Employment and Training Administration

Comment Request for Extension of Information Collection (Without Revisions): ETA Form 9141—Application for Prevailing Wage Determination and ETA Form 9142—Application for Temporary Employment Certification

AGENCY: Employment and Training Administration.

ACTION: Notice.

SUMMARY: The Department of Labor (Department), as part of its continuing effort to reduce paperwork and respondent burden, is conducting a pre-clearance consultation to provide the general public and Federal agencies with an opportunity to comment on the continuing collections of information in accordance with the Paperwork Reduction Act of 1995 (PRA) 44 U.S.C. 3506(c)(2)(A). The Department undertakes this consultation to ensure that requested data can be provided in the desired format, reporting burden (time and financial resources) is minimized, collection instruments are clearly understood, and the impact of collection requirements on respondents can be properly assessed. Through this Notice, the Employment and Training Administration (ETA) is soliciting comments concerning the extension of the approval for the information collection, Office of Management and Budget (OMB) Control Number 1205-0466, containing ETA Form 9141—Application for Prevailing Wage Determination and ETA Form 9142—Application for Temporary Employment Certification, which expires on November 30, 2011. A copy of the proposed information collection request (ICR) can be obtained by contacting the office listed below in the addressee section of this notice.

DATES: Please submit written comments to the office listed in the addressee section below on or before September 27, 2011.

ADDRESSES: William L. Carlson, Ph.D., Administrator, Office of Foreign Labor Certification, U.S. Department of Labor, Room C-4312, 200 Constitution Ave., NW., Washington, DC 20210; by phone at (202) 693-3010 (this is not a toll-free number); by fax at (202) 693-2768; or by e-mail at ETA.OFLC.Forms@dol.gov subject line: ETA Form 9141 and ETA Form 9142.

SUPPLEMENTARY INFORMATION:

I. Background

The information collection is required by sections 203(b)(3), 212(a)(5)(A), 212(m), (n), (t), 214(c), and 218 of the Immigration and Nationality Act (INA) (8 U.S.C. § 1153(b)(3), 1182(a)(5)(A), 1182(m), (n), (t), 1184(c), and 1188) and 8 CFR 214.2(h). The INA and applicable DHS regulations require the Secretary of Labor (Secretary) to certify, among other things, that any foreign worker seeking to enter the United States (U.S.) for the purpose of performing certain skilled or unskilled labor will not, by doing so, adversely affect wages and working conditions of U.S. workers similarly employed. The Secretary must also certify that there are not sufficient U.S. workers able, willing, and qualified to perform such skilled or unskilled labor. Before an employer may petition for temporary or permanent skilled or unskilled foreign workers, it must submit a request for certification to the Secretary containing the elements prescribed by the INA and regulations, which differ depending on the visa program under which the labor is sought. In addition, before the Secretary can certify that wages for U.S. workers have not been adversely affected, she must ensure that the employer offers the required wage to the foreign workers in accordance with the Department's applicable labor certification regulations.

II. Review Process

The Department is particularly interested in comments which:

• Evaluate whether the proposed collection of information is necessary for the proper performance of the functions of the agency, including whether the information will have practical utility;

• Evaluate the accuracy of the Department's estimate of the burden of the proposed collection of information, including the validity of the methodology and assumptions used;

• Enhance the quality, utility, and clarity of the information to be collected; and

• Minimize the burden of the collection of information, including through the use of appropriate automated, electronic, mechanical, or other technological collection techniques or other forms of information technology, e.g., permitting electronic submissions of responses.

III. Current Actions

In order to meet its responsibilities under the INA, the Department needs to extend an existing collection of information pertaining to the H-2A and H-2B programs for temporary employment certification in agricultural and non-agricultural occupations (ETA Form 9142—Application for Temporary Employment Certification) and the prevailing wage determinations in most other programs (ETA Form 9141—Application for Prevailing Wage Determination).

Type of Review: Extension (without revisions) of a currently approved information collection.

Agency: Employment and Training Administration.

Title(s): Application for Prevailing Wage Determination and Application for Temporary Employment Certification.

OMB Number: 1205-0466.

Agency Form(s): ETA Form 9141 and ETA Form 9142.

Recordkeeping: On occasion.

Affected Public: Farms, businesses or other for-profits, not-for-profits, states, local governments, and tribal governments.

Total Respondents: 104,500.

Estimated Total Burden Hours: 469,004.

Total Burden Cost (capital/startup): $1,752,700.

Total Burden Cost (operating/maintaining): 0.

The Department will summarize and/or include comments submitted in response to this comment request in its request for OMB approval of the information collection. The comments will also become a matter of public record.

Signed in Washington, DC this 26th day of July 2011.
Jane Oates,
Assistant Secretary, Employment and Training Administration.

[FR Doc. 2011-19261 Filed 7-28-11; 8:45 am]

BILLING CODE 4510-FP-P